DEPARTMENT OF THE INTERIOR

Bureau of Indian Affairs

25 CFR Chapter I

No Child Left Behind Negotiated Rulemaking Committee

AGENCY: Bureau of Indian Affairs, Interior.

ACTION: Membership of the No Child Left Behind Negotiated Rulemaking Committee.

SUMMARY: The Secretary of the Interior has established an advisory Committee to develop recommendations for proposed rules for Indian education under six sections of The No Child Left Behind Act of 2001. On May 5, 2003, the Secretary published the proposed membership for the No Child Left Behind Negotiated Rulemaking Committee and requested comments. Following review of the comments, the Secretary has named the members of the Committee.

SUPPLEMENTARY INFORMATION: The No Child Left Behind Negotiated Rulemaking Committee is an advisory committee formed under the No Child Left Behind Act of 2001 (Pub. L. 107-110), the Negotiated Rulemaking Act, and the Federal Advisory Committee Act. The purpose of the Committee is to negotiate and reach consensus on recommendations for proposed rules for Indian education under six sections of The No Child Left Behind Act of 2001. For more information on negotiated rulemaking under The No Child Left Behind Act, see Federal Register notices that we published on December 10, 2002 (67 FR 75828) and May 5, 2003 (68 FR 23631), or our Web site at http//www.oiep.bia.edu under “Negotiated Rulemaking.”

The Secretary proposed 19 tribal Committee members and 6 Federal Committee members. Following selection of the tribal Committee members as proposed in the May 5, 2003, Federal Register notice, one of the proposed tribal Committee members, David Germany, Mississippi Band of Choctaw, was unable to serve. The Secretary has replaced Mr. Germany with Vanessa Girard, Education Planner, Gila River Indian Community. In response to the Federal Register notice of proposed membership of the Committee, the Secretary received 8 comments, including 6 additional nominations for Committee membership. The Secretary found that the membership of the Committee adequately represented the tribes with bureau-funded schools and the interests previously identified. Therefore the Secretary did not select any of the new nominations for the Committee.

The Secretary has selected the following tribal representatives for the No Child Left Behind Negotiated Rulemaking Committee:

Nominee | Tribal affiliation | Educational affiliation
Greg Anderson | Muscogee (Creek) Nation | Administrator, Creek Nation-Eufaula Dormitory.
Lorraine Begay | Navajo Nation | Director, Business Services, Greasewood Springs Community School, Inc.
Pauleen Billie | Navajo Nation | Executive Director, Navajo Area School Board Association.
Faye Blue Eyes | Navajo Nation | Director, Support Services, Shiprock Alternative Schools, Inc.
Roger Bordeaux | Potowatomi Nation | Superintendent, Tiospa Zina Tribal School.
Deborah Bordeaux | Oglala Sioux Tribe | Principal, Loneman School.
Doyce Cannon | Eastern Band of Cherokee Indians | Director of Education, Cherokee Central Schools.
Mary Helen Creamer | Navajo Nation | Program Manager, Tribal Education Department.
Laverne Dallas | Hopi Tribe | President, Hopi School Board.
Zachary Ducheneaux | Cheyenne River Sioux Tribe | District 6 Representative, Cheyenne River Sioux Tribal Council.
Gus Keene, Jr. | Navajo Nation | Director, Education Services, Ramah Navajo School Board.
Dolores McKerry | Navajo Nation | Program Manager, Navajo Education Center, North Central Association.
Wayne Newell | Pasamaquoddy Tribe | Director, Culture and Bilingual Education.
Tony Pivec | Cherokee Nation | Superintendent, Sequoyah High School.
Mark Sorenson | Navajo Nation | Executive Director, Little Singer Community School.
Terry Yellow Fat | Standing Rock Sioux Tribe | Superintendent, Standing Rock Community School.
Wayne Waddoups | Shoshone-Bannock | Superintendent, Shoshone Bannock School District # 512.
Vanessa Girard | Gila River Indian Community | Education Planner, Gila River Indian Community.
Linda Warner | Comanche Nation | Past Chief Executive Officer, Indian Community School of Milwaukee.

In addition, the Secretary has selected the following Federal representatives for the No Child Left Behind Negotiated Rulemaking Committee:

Name | Affiliation
Theresa Rosier | Office of the Assistant Secretary-Indian Affairs.
Sharon Wells | Special Assistant Deputy Director, School Operations, BIA.
Edith Blackwell | Associate Solicitor, Division of Indian Affairs, Office of the Solicitor.
Bruce Steele | Principal, Polacca Day School, BIA-OIEP-Hopi Agency.
Michael Rossetti | Counselor to the Secretary of the Interior.
Larry Byers | Principal, Chemawa School, BIA-OIEP.

Dated: July 10, 2003.
Aurene M. Martin,
Acting Assistant Secretary—Indian Affairs.

[FR Doc. 03-18220 Filed 7-17-03; 8:45 am]

BILLING CODE 4310-6W-P